DEPARTMENT OF TRANSPORTATION

Federal Aviation Administration

Twenty-Third Meeting: RTCA Special Committee 222 (SC-222) AMS(R)S, Joint Meeting With EUROCAE WG-82

AGENCY: Federal Aviation Administration (FAA), U.S. Department of Transportation (DOT).

ACTION: Notice of Twenty-Third RTCA Special Committee 222 meeting.

SUMMARY: The FAA is issuing this notice to advise the public of the Twenty-Third RTCA Special Committee 222 meeting.

DATES: The meeting will be held June 8-9, 2016 from 9:00 a.m.-5:00 p.m.

ADDRESSES: The meeting will be held at Noordwijk, Netherlands (ESA).

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662 or Armin Schlereth, Chair, EUROCAE WG-82, armin.schlereth@dfs.de.

SUPPLEMENTARY INFORMATION: Pursuant to section 10(a)(2) of the Federal Advisory Committee Act (Pub. L. 92-463, 5 U.S.C., App.), notice is hereby given for a meeting of RTCA Special Committee 222. The agenda will include the following:

Wednesday, June 8, 2016 (10:00 a.m. local and 4:00 a.m. EDT)

1. Morning Session

a. Welcome & Introduction

b. Approval of the agenda

c. IPR and EUROCAE membership

d. Minutes of last meeting

e. Coordination with other GROUPs

i. (EUROCAE, RTCA, ICAO, SESAR, AEEC)

f. Presentation of general interest

i. SESAR P15.2.5 flight trials report (AIRBUS)

ii. IRIS Precursor (INMARSAT)

iii. IRIS Service Evolution Project (INMARSAT)

g. SATCOM MASPS development (INMARSAT)

2. Afternoon Session (2:00 p.m.-6:00 p.m. and, 8:00 a.m.-12:00 p.m. EDT)

a. Joint session with RTCA SC-222

b. Present and discuss actual status of MASPS (INMARSAT)(3 hours duration)

c. Discuss actual IRIDIUM status

d. Next steps

Thursday, June 9, 2016 (Ends 6:00 p.m. local and 12:00 p.m. EDT)

1. Morning Session

a. ESA Lab Tour (ESA) (2 hours duration)

b. SATCOM MOPS development (HONEYWELL) (1.5 hours duration)

2. Afternoon Session

a. Joint session with RTCA SC-222

i. Present and discuss actual status of MOPS

1. INMARSAT (3 hours duration)

ii. Next steps

b. AOB

c. Summary & Next Meeting

This is a joint meeting with EUROCAE WG-82. The physical meeting is in Noordwijk, Netherlands (ESA). Dress is business casual. For details please contact Armin Schlereth, Chair of Eurocae WG-82 armin.schlereth@dfs.de. This meeting is to progress work on MASPS and MOPS for SBB use in en route continental airspace. Updates on Iridium progress may be received. Minor changes may be made to the agenda. Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 11, 2016.
Latasha Robinson,
Management & Program Analyst, NextGen, Enterprise Support Services Division, Federal Aviation Administration.

[FR Doc. 2016-11497 Filed 5-13-16; 8:45 am]

BILLING CODE 4910-13-P